NATIONAL SCIENCE FOUNDATION

Proposal Review Panel for Materials Research; Notice of Meeting

In accordance with the Federal Advisory Committee Act (Pub. L. 92-463, as amended), the National Science Foundation (NSF) announces the following meeting:

Name and Committee Code: Proposal Review Panel for Materials Research—NSF Oversight Review of the Center for High Resolution Neutron Scattering (CHRNS) and The Midscale RI Project for a World Class Neutron Spin-Echo Spectrometer for the Nation (or NSE project)—Hybrid (On-site & Virtual) (#1203).

Date and Time: Feb 28, 2023; 8:30 a.m.-6 p.m., Mar 01, 2023; 8:30 a.m.-3 p.m.

Place: NIST Center for Neutron Research, 100 Bureau Drive, Gaithersburg, MD 20899.

To attend this meeting in-Person: Prior approval to access the NCNR facility is required.

Details are available at: https://www.nist.gov/ncnr/arrange-visit-ncnr/obtaining-access-ncnr.

To attend the open sessions of the meeting virtually, please send a request to somardia@nsf.gov.

Type of Meeting: Part-open.

Contact Person: Dr. Souleymane Diallo, Program Director, Division of Materials Research, National Science Foundation, 2415 Eisenhower Avenue, Alexandria, VA 22314; Telephone: (703) 292-8302.

Purpose of Meeting: Site visit to provide advice and recommendations concerning Progress and Performance of CHRNS and NSE projects.

Agenda: Open sessions include science presentations by the facility and project staff.

Tuesday, February 28, 2023

8:30 a.m.-12 p.m. CHRNS & NSE Reviews (Open)

12 p.m.-1 p.m. Executive Session (Closed)

1-4:45 p.m. Sessions (Open)

4:45-6 p.m. Executive Session (Closed)

Wednesday, March 1, 2023

8:30-10 a.m. CHRNS & NSE Reviews (Open).

10 a.m.-3 p.m. Executive Session (Closed).

Reason for Closing: Topics to be discussed and evaluated during closed portions of the site visit include information of a proprietary or confidential nature, including technical information; financial data, such as salaries and personal information concerning individuals associated with the project. These matters are exempt under 5 U.S.C. 552b(c), (4) and (6) of the Government in the Sunshine Act.

Dated: January 13, 2023.
Crystal Robinson,
Committee Management Officer.

[FR Doc. 2023-01015 Filed 1-19-23; 8:45 am]

BILLING CODE 7555-01-P